DEPARTMENT OF COMMERCE

International Trade Administration

United States Investment Advisory Council Meeting

AGENCY: International Trade Administration, U.S. Department of Commerce.

ACTION: Notice of an open meeting.

SUMMARY: In accordance with the Federal Advisory Committee Act (FACA), this notice announces, the United States Investment Advisory Council (Council) will hold a virtual meeting on Thursday, September 10, 2020.

DATES: Thursday, September 10, 2020, 10:00-11:30 a.m. EDT. The deadline for members of the public to register, including requests to make comments during the meeting and for auxiliary aids, or to submit written comments for dissemination prior to the meeting is 5:00 p.m. EDT on September 3, 2020.

ADDRESSES: The meeting will be held virtually due to the current COVID-19 pandemic. Requests to register (including to speak) and any written comments should be submitted to: United States Investment Advisory Council, U.S. Department of Commerce, 1401 Constitution Avenue NW, Room 30011, Washington, DC 20230, and emailed to: IAC@trade.gov. Members of the public are encouraged to submit registration requests and written comments via email to ensure timely receipt.

FOR FURTHER INFORMATION CONTACT: David Weil, United States Investment Advisory Council, Room 30011, 1401 Constitution Avenue NW, Washington, DC 20230, telephone 202-768-1906.

SUPPLEMENTARY INFORMATION: The United States Investment Advisory Council (Council) was established by the Secretary of Commerce (Secretary) pursuant to duties imposed by 15 U.S.C. 1512 upon the Department and in compliance with the Federal Advisory Committee Act, as amended, 5 U.S.C. App.

The Council advises the Secretary on matters relating to the promotion and retention of foreign direct investment in the United States. At the meeting, members will provide updates on the work they have done to present in identifying and deliberating on policy priorities regarding the facilitation of foreign direct investment into the United States. These policy priorities include deregulation and the streamlining of processes that affect business investment opportunities across U.S. regions, the facilitation of infrastructure investment, workforce development, and mechanisms to increase investment competitiveness for domestic manufacturing companies, in addition to other topics. The agenda may change to accommodate Council business. The final agenda will be posted on the Department of Commerce website for the Council at: http://trade.gov/IAC, at least one week in advance of the meeting.

Public Participation: The meeting will be open to the public and will be accessible to people with disabilities. All guests are required to register in advance by the deadline identified under the DATES caption. Requests for auxiliary aids must be submitted by the registration deadline. Last minute requests will be accepted but may be impossible to fill. There will be fifteen (15) minutes allotted for oral comments from members of the public joining the meeting. To accommodate as many speakers as possible, the time for public comments may be limited to three (3) minutes per person. Individuals wishing to reserve speaking time during the meeting must submit a request at the time of registration, as well as the name and address of the proposed speaker. If the number of registrants requesting to make statements is greater than can be reasonably accommodated during the meeting, the International Trade Administration may conduct a lottery to determine the speakers.

Speakers are requested to submit a written copy of their prepared remarks by 5:00 p.m. EDT on September 3, 2020, for inclusion in the meeting records and for circulation to the Members of the Council.

In addition, any member of the public may submit pertinent written comments concerning the Council's affairs at any time before or after the meeting. Comments may be submitted to David Weil at the contact information indicated above. To be considered during the meeting, comments must be received no later than 5:00 p.m. EDT on September 3, 2020, to ensure transmission to the Council members prior to the meeting. Comments received after that date and time will be distributed to the members but may not be considered during the meeting. Comments and statements will be posted on the United States Investment Advisory Council website (http://trade.gov/IAC) without change, including any business or personal information provided such as it includes names, addresses, email addresses, or telephone numbers.

All comments and statements received, including attachments and other supporting materials, are part of the public record and subject to public disclosure. You should submit only information that you wish to make publicly available.

Copies of Council meeting minutes will be available within 90 days of the meeting.

David Weil,
United States Investment Advisory Council.

[FR Doc. 2020-18359 Filed 8-20-20; 8:45 am]

BILLING CODE 3510-DR-P